DEPARTMENT OF THE INTERIOR

National Park Service

[NPS-WASO-NAGPRA-20924; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Pennsylvania Museum of Archaeology and Anthropology. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Pennsylvania Museum of Archaeology and Anthropology at the address in this notice by June 10, 2016.

ADDRESSES: Dr. Julian Siggers, Director, University of Pennsylvania Museum of Archaeology and Anthropology, Philadelphia, PA 19104, telephone (215) 898-4050.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from Wayne County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of Chippewa Cree Indians of the Rocky Boy's Reservation, Montana (previously listed as the Chippewa-Cree Indians of the Rocky Boy's Reservation, Montana); Citizen Potawatomi Nation, Oklahoma; Minnesota Chippewa Tribe, Minnesota (Six component reservations: Bois Forte Band (Nett Lake); Fond du Lac Band; Grand Portage Band; Leech Lake Band; Mille Lacs Band; White Earth Band); Pokagon Band of Potawatomi Indians, Michigan and Indiana; Wyandotte Nation; and with the Michigan Anishinaabek Cultural Preservation & Repatriation Alliance, a non-federally recognized entity, representing the following federally recognized tribes: Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Saginaw Chippewa Indian Tribe of Michigan; and the Sault Ste. Marie Tribe of Chippewa Indians, Michigan, hereafter referred to as “The Consulted Tribes.”

The following tribes were invited to consult but did not respond: Bad River Band of the Lake Superior Tribe of Chippewa Indians of the Bad River Reservation, Wisconsin; Forest County Potawatomi Community, Wisconsin; Lac Courte Oreilles Band of Lake Superior Chippewa Indians of Wisconsin; Lac du Flambeau Band of Lake Superior Chippewa Indians of the Lac du Flambeau Reservation of Wisconsin; Ottawa Tribe of Oklahoma; Prairie Band Potawatomi Nations (previously listed as the Prairie Band of Potawatomi Nation, Kansas); Red Cliff Band of Lake Superior Chippewa Indians of Wisconsin; Red Lake Band of Chippewa Indians, Minnesota; Sokaogon Chippewa Community, Wisconsin; St. Croix Chippewa Indians of Wisconsin; Turtle Mountain Band of Chippewa Indians of North Dakota, hereafter referred to as “The Invited Tribes.”

History and Description of the Remains

In 1844, human remains representing, at minimum, one individual (97-606-1270) were removed from a mound located near Detroit, Wayne County, MI. The human remains were removed by Lieutenant Montgomery C. Meigs during the construction of Fort Wayne by the Army Corps of Engineers. The area selected for the Fort was the site of a “prehistoric complex of earthworks, especially burial mounds” (Grosscup 1999: 332).

The Springwells Mound Group as it is known is represented by three mounds, the mound located near the Springwells Copper Works (Michigan site number WN-3), the Fort Wayne Mound (WN-1), and the Central Mound (WN-5) located just east of Fort Wayne. Another mound directly opposite (Carsten Mound) and the Great Mound at the mouth of the Rouge River probably relate to the mounds at Springwells. These human remains likely originated from one of the three mounds located on or near Fort Wayne. The mounds date to early-late Late Woodland Periods. The human remains include the cranium and mandible of a single female estimated to be 35-50 years old.

Lt. Meigs sent the human remains to Dr. Samuel G. Morton for inclusion in his study of human crania prior to 1846. In 1853, Dr. Morton's collection, including the human remains described above, was purchased from Dr. Morton's estate and formally presented to the Academy of Natural Sciences of Philadelphia. In 1966, Dr. Morton's collection was loaned to the University of Pennsylvania Museum of Archaeology and Anthropology. In 1997, the collection was formally gifted to the University of Pennsylvania Museum. No known individuals were identified. No associated funerary objects are present.

Determinations Made by the University of Pennsylvania Museum of Archaeology and Anthropology

Officials of the University of Pennsylvania Museum of Archaeology and Anthropology have determined that:

• Pursuant to 25 U.S.C. 3001(9), the human remains described in this notice are Native American based on their examination by a physical anthropologist, their recovery from a known archeological site complex, museum documents, and published records.

• Pursuant to 25 U.S.C. 3001(9), the human remains described in this notice represent the physical remains of one individual of Native American ancestry.

• Pursuant to 25 U.S.C. 3001(2), a relationship of shared group identity cannot be reasonably traced between the Native American human remains and any present-day Indian tribe.

• Treaties, Acts of Congress, or Executive Orders, indicate that the land from which the Native American human remains were removed is the aboriginal land of The Consulted Tribes and The Invited Tribes.

• Pursuant to 43 CFR 10.11(c)(1), the disposition of the human remains may be to The Consulted Tribes and The Invited Tribes.

Additional Requestors and Disposition

Representatives of any Indian tribe or Native Hawaiian organization not identified in this notice that wish to request transfer of control of these human remains should submit a written request with information in support of the request to Dr. Julian Siggers, University of Pennsylvania Museum of Archaeology and Anthropology, 3260 South Street, Philadelphia, PA 19104, telephone (215) 898-4050 by June 10, 2016. After that date, if no additional requestors have come forward, transfer of control of the human remains to The Consulted and Invited Tribes may proceed.

The University of Pennsylvania Museum of Archaeology and Anthropology is responsible for notifying The Consulted Tribes and The Invited Tribes that this notice has been published.

Dated: April 21, 2016.
Melanie O'Brien,
Manager, National NAGPRA Program.

[FR Doc. 2016-11085 Filed 5-10-16; 8:45 am]

BILLING CODE 4312-50-P